DEPARTMENT OF ENERGY

Federal Energy Regulatory Commission

[Project No. 15284-000]

HGE Energy Storage 1, LLC; Notice of Preliminary Permit Application Accepted for Filing and Soliciting Comments, Motions To Intervene, and Competing Applications

On August 18, 2022, HGE Energy Storage 1, LLC, filed an application for a preliminary permit, pursuant to section 4(f) of the Federal Power Act (FPA), proposing to study the feasibility of the proposed 1,351-megawatt (MW) Vandenberg Pumped Storage Project to be located at the Vandenberg Air Force Base in Santa Barbara County, California. The sole purpose of a preliminary permit is to grant the permit holder priority to file a license application during the permit term. A preliminary permit does not authorize the permit holder to perform any land-disturbing activities or otherwise enter upon lands or waters owned by others without the owners' express permission.

The proposed project would consist of the following new facilities: (1) a 28.4-acre upper reservoir and a storage capacity of 7,104 acre-feet at an water surface elevation of 1,200 feet above mean sea level, created by a 30-foot-high, 4,450 foot-long upper embankment dam with rubber sheet and asphalt lining; (2) a 7,500-foot-long conduit connecting the upper reservoir to the Pacific Ocean; (3) a 250-foot long, 75-foot-wide, 100 foot-high powerhouse, constructed approximately 100 feet below ground level near the Pacific Ocean; (4) seven steel-lined, 7,500-foot-long penstocks; (5) seven 193-MW, reversible variable-speed pump turbines; a (6) a new, single circuit 214-kilovolt transmission line interconnecting the project to the grid at the Lompoc substation in Lompoc, California; and (7) a 400-foot-high, 30-foot-diameter vertical access tunnel approximately constructed from ground level to the powerhouse.

Water for the project would be pumped directly from the Pacific Ocean. A breakwater would be constructed in the Pacific Ocean to reduce water level fluctuations during pumping events, and to dissipate energy during periods of power generation, for the purpose of reducing impacts to marine resources caused by project discharges. The estimated annual energy production of the proposed project would be approximately 3,952,128 megawatt-hours.

Applicant Contact: Mr. Wayne Krouse, Manager, HGE Energy Storage 1 LLC, 2901 4th Avenue South #B 253, Birmingham, AL 35233; email: wayne@hgenergy.com; phone (877) 556-6566 x-709.

FERC Contact: Benjamin Mann; email; benjamin.mann@ferc.gov; phone (202) 502-8127.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters without prior registration using the eComment system at https://ferconline.ferc.gov/QuickComment.aspx. For assistance, please get in touch with FERC Online Support at FERCOnlineSupport@ferc.gov, (866) 208-3676 (toll-free), or (202) 502-8659 (TTY). Instead of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15284-000.

More information about this project, including a copy of the application, can be viewed or printed on the “eLibrary” link of the Commission's website at https://elibrary.ferc.gov/eLibrary/search. Enter the docket number (P-15284) in the docket number field to access the document. For assistance, do not hesitate to get in touch with FERC Online Support.

Dated: June 18, 2024.
Debbie-Anne A. Reese,
Acting Secretary.

[FR Doc. 2024-13929 Filed 6-25-24; 8:45 am]

BILLING CODE 6717-01-P